DEPARTMENT OF ENERGY

Federal Energy Regulatory Commission

[Docket No. RP00-399-008]

National Fuel Gas Supply Corporation; Notice of Compliance Filing

June 20, 2002.

Take notice that on June 14, 2002, National Fuel Gas Supply Corporation (National Fuel) tendered for filing as part of its FERC Gas Tariff, Fourth Revised Volume No. 1, the tariff sheets listed on Appendix A to the filing.

National Fuel states that the purpose of the instant filing is to comply with the requirements of Order No. 637 concerning segmentation and on-the-path secondary priority. National Fuel?s filing indicates that the tariff sheets implementing all other requirements of Order No. 637 are already in effect.

National Fuel states that copies of this filing were served upon its customers, interested state commissions and the parties on the official service list compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16124 Filed 6-25-02; 8:45 am]

BILLING CODE 6717-01-P